NATIONAL FOUNDATION ON THE ARTS AND THE HUMANITIES

National Endowment for the Arts

National Council on the Arts 194th Meeting

AGENCY: National Endowment for the Arts, National Foundation on the Arts and Humanities.

ACTION: Notice of meeting.

SUMMARY: Pursuant to the Federal Advisory Committee Act, notice is hereby given that a meeting of the National Council on the Arts will be held. Open to the public on a space available basis.

DATES: See the SUPPLEMENTARY INFORMATION section for meeting times and dates. All activities are Eastern time and ending times are approximate.

ADDRESSES: Huntington Museum of Art, 2033 McCoy Road, Huntington, West Virginia 25701; Keith-Albee Theater, 925 Fourth Avenue, Huntington, West Virginia 25701; West Virginia State Museum, 1900 Kanawha Boulevard East, Charleston, West Virginia 25305.

FOR FURTHER INFORMATION CONTACT: Victoria Hutter, Office of Public Affairs, National Endowment for the Arts, Washington, DC 20506, at 202/682-5570.

SUPPLEMENTARY INFORMATION: If, in the course of the open session discussion, it becomes necessary for the Council to discuss non-public commercial or financial information of intrinsic value, the Council will go into closed session pursuant to subsection (c)(4) of the Government in the Sunshine Act, 5 U.S.C. 552b, and in accordance with the July 5, 2016 determination of the Chairman. Additionally, discussion concerning purely personal information about individuals, such as personal biographical and salary data or medical information, may be conducted by the Council in closed session in accordance with subsection (c)(6) of 5 U.S.C. 552b.

Any interested persons may attend, as observers, to Council discussions and reviews that are open to the public. If you need special accommodations due to a disability, please contact Beth Bienvenu, Office of Accessibility, National Endowment for the Arts, Constitution Center, 400 7th St. SW, Washington, DC 20506, 202/682-5733, Voice/T.T.Y. 202/682-5496, at least seven (7) days prior to the meeting.

The Upcoming Meeting is:

National Council on the Arts 194th Meeting

This meeting and activities will be open.

Dates and Times:

Site Visit to Huntington Museum of Art in Huntington, WV

June 28, 2018; 12:00 p.m. to 12:20 p.m.

Site Visit to Keith-Albee Theater in Huntington, WV

June 28, 2018; 12:30 p.m. to 1:30 p.m.

Council meeting at West Virginia State Museum in Charleston, WV

June 29, 2018; 9:00 a.m. to 11:30 a.m.

There will be opening remarks and voting on recommendations for grant funding and rejection, followed by updates from the Acting Chairman and guest presentations.

Dated: June 7, 2018.
Sherry Hale,
Staff Assistant, National Endowment for the Arts.

[FR Doc. 2018-12612 Filed 6-11-18; 8:45 am]

BILLING CODE 7537-01-P